DEPARTMENT OF ENERGY

Federal Energy Regulatory Commission

[Docket Nos. AD22-11-000; AD21-9-000]

Office of Public Participation Fundamentals for Participating in FERC Matters; Supplemental Notice of Workshop: WorkshOPP on Filing Comments

On July 11, 2022, the Federal Energy Regulatory Commission Office of Public Participation (OPP) issued a notice of an August 30, 2022 from 2:00 p.m. to 3:00 p.m. Eastern time, virtual workshop to discuss, how members of the public including consumers and consumer advocates can file comments on the record using FERC Online applications.

The workshop will include a video demonstration of steps involved in filing a comment in a rulemaking proceeding, followed by a presentation of useful tips for using the Commission's online applications and a question-and-answer portion of the workshop. The workshop will provide information on the commenting process to facilitate increased public participation in Commission processes and decision-making.

The workshop will be open for the public to attend, and there is no fee for attendance. Further details on the agenda, including registration information, can be found on the OPP website. Information on this technical workshop will also be posted on the Calendar of Events on the Commission's website, www.ferc.gov, prior to the event.

WorkshOPP on Filing Comments Agenda
2:05-2:15 p.m | Introduction.
2:15-2:25 p.m | FERC Fundamentals and FERC Online Applications.
2:25-2:35 p.m | Video: How to file comments in a Rulemaking using eFiling.
2:35-2:50 p.m | Tips for FERC Online Applications.
2:50-3:00 p.m | Questions and Answers.

The workshop will be accessible under section 508 of the Rehabilitation Act of 1973. For accessibility accommodations, please send an email to accessibility@ferc.gov or call toll free 1-866-208-3372 (voice) or 202-502-8659 (TTY), or send a FAX to 202-208-2106 with the required accommodations.

For more information about the workshop, please contact the Commission's Office of Public Participation at 202-502-6595 or send an email to OPP@ferc.gov. To submit a question that you would like answered during the workshop, please email OPPWorkshop@ferc.gov.

Dated: August 17, 2022.
Kimberly D. Bose,
Secretary.

[FR Doc. 2022-18129 Filed 8-22-22; 8:45 am]

BILLING CODE 6717-01-P